DEPARTMENT OF THE TREASURY

Internal Revenue Service

Open Meeting for the Electronic Tax Administration Advisory Committee (ETAAC)

AGENCY: Internal Revenue Service (IRS), Treasury.

ACTION: Meeting notice.

SUMMARY: An open meeting of the Electronic Tax Administration Advisory Committee (ETAAC) will be conducted via telephone conference call. The ETAAC will discuss recommendations for electronic tax administration which will be published in the Annual Report to Congress.

DATES: Meeting Date: The meeting will be held on Wednesday, June 19, 2013, beginning at 9:00 a.m. eastern time, ending at approximately 10:30 a.m.

FOR FURTHER INFORMATION CONTACT: Cassandra Daniels at 202-283-2178 or email etaac@irs.gov to receive the call information. Please spell out all names if you leave a voice message.

SUPPLEMENTARY INFORMATION:

Background: The Internal Revenue Service established the Electronic Tax Administration Advisory Committee (ETAAC) in 1998. The primary purpose of ETAAC is to provide an organized public forum for discussion of electronic tax administration issues in support of the overriding goal that paperless filing should be the preferred and most convenient method of filing tax and information returns. The ETAAC members convey the public's perceptions of the IRS electronic tax administration activities, offer constructive observations about current or proposed policies, programs, and procedures, and suggest improvements. The ETAAC's duties are to research, analyze, consider, and make recommendations on a wide range of electronic tax administrative issues and to provide input into the development and implementation of the strategic plan for electronic tax administration.

Meeting Access: The teleconference meeting is open to the public. Interested members of the public may listen to the ETAAC's discussion and submit written statements on issues in electronic tax administration to Cassandra Daniels, 5000 Ellin Road, C4-213 Lanham, MD 20706 or to etaac@irs.gov no later than 12 p.m. eastern on June 18, 2013. Written statements received after this date may not be provided to or considered by the ETAAC until its next meeting.

Dated: May 20, 2013.
Diane L. Fox,
Director, Relationship Management Branch.

[FR Doc. 2013-12668 Filed 5-28-13; 8:45 am]

BILLING CODE 4830-01-P